FEDERAL DEPOSIT INSURANCE CORPORATION

Agency Information Collection Activities: Proposed Collection Renewals; Comment Request (3064-0070, -0079, -0103, -0139 & -0192)

AGENCY: Federal Deposit Insurance Corporation (FDIC).

ACTION: Notice and request for comment.

SUMMARY: The FDIC, as part of its continuing effort to reduce paperwork and respondent burden, invites the general public and other Federal agencies to take this opportunity to comment on the renewal of existing information collections, as required by the Paperwork Reduction Act of 1995. Currently, the FDIC is soliciting comment on the renewal of the information collections described below.

DATES: Comments must be submitted on or before July 25, 2016.

ADDRESSES: Interested parties are invited to submit written comments to the FDIC by any of the following methods:

• http://www.FDIC.gov/regulations/laws/federal/.

• Email: comments@fdic.gov. Include the name and number of the collection in the subject line of the message.

• Mail: Gary A. Kuiper (202.898.3877), Counsel, MB-3016 or Manny Cabeza (202.898.3767), Counsel MB-3105, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Gary Kuiper or Manny Cabeza, at the FDIC address above.

SUPPLEMENTARY INFORMATION:

Proposal to renew the following currently-approved collections of information:

1. Title: Application for a Bank to Establish a Branch or Move its Main Office.

OMB Number: 3064-0070.

Affected Public: Insured financial institutions.

Frequency of Response: On occasion.

Annual Number of Respondents: 752.

Estimated Time per Response: 10 hours.

Total Annual Burden: 7520 hours.

General Description: Insured institutions must obtain the written consent of the FDIC before establishing or moving a main office or branch.

2. Title: Application for Consent to Reduce or Retire Capital.

OMB Number: 3064-0079.

Affected Public: Insured state nonmember banks.

Frequency of Response: On occasion.

Estimated Number of Respondents: 80.

Estimated Time per Response: 11 hours.

Total Annual Burden: 880 hours.

General Description: Insured state nonmember banks proposing to change their capital structure must submit an application containing information about the proposed change to obtain FDIC's consent to reduce or retire capital.

3. Title: Appraisals Standard.

OMB Number: 3064-0103.

Affected Public: Insured state nonmember banks.

Frequency of Response: On occasion.

Estimated Number of Respondents: 3947.

Estimated Number of Responses per Respondent: 105.6.

Estimated Time per Response: .75 hours.

Total Annual Burden: 312,602 hours.

General Description: FIRREA directs the FDIC to prescribe appropriate performance standards for real estate appraisals connected with federally related transactions under its jurisdiction. This information collection is a direct consequence of the statutory requirement.

4. Title: CRA Sunshine.

OMB Number: 3064-0139.

Affected Public: Insured state nonmember banks and their affiliates and nongovernmental entities and persons.

Frequency of Response: On occasion.

Estimated Number of Respondents: 16.

Estimated Time per Response: 8.625.

Total Annual Burden: 138 hours.

General Description: This collection implements a statutory requirement imposing reporting, disclosure and recordkeeping requirements on some community reinvestment-related agreements between insured depository institutions or affiliates, and nongovernmental entities or persons.

5. Title: Asset Sales Forms.

OMB Number: 3064-0192.

Affected Public: Insured state nonmember banks and their affiliates and nongovernmental entities and persons.

Frequency of Response: On occasion.

Estimated Number of Respondents: 600 hours.

Estimated Time per Response: .50 hours.

Total Annual Burden: 300 hours.

General Description: The FDIC uses the Purchaser Eligibility Certification form, FDIC Form No. 7300/06, to identify prospective bidders who are not eligible to purchase assets of failed institutions from the FDIC. Specifically, section 11(p) of the Federal Deposit Insurance Act prohibits the sale of assets of failed institutions to certain individuals or entities that profited or engaged in wrongdoing at the expense of those failed institutions, or seriously mismanaged those failed institutions.

Request for Comment

Comments are invited on: (a) Whether the collections of information are necessary for the proper performance of the FDIC's functions, including whether the information has practical utility; (b) the accuracy of the estimates of the burden of the collections of information, including the validity of the methodology and assumptions used; (c) ways to enhance the quality, utility, and clarity of the information to be collected; and (d) ways to minimize the burden of the collections of information on respondents, including through the use of automated collection techniques or other forms of information technology. All comments will become a matter of public record.

Dated at Washington, DC, this 19th day of May 2016.
Federal Deposit Insurance Corporation.
Robert E. Feldman,
Executive Secretary.

[FR Doc. 2016-12181 Filed 5-23-16; 8:45 am]

BILLING CODE 6714-01-P